SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: May 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Dalrymple Gravel & Contracting Co., Inc.—Chemung Plant, GF Certificate No. GF-202505294, Town of Chemung, Chemung County, N.Y.; Freshwater Pond—Pump 1 (Gravel), Freshwater Pond—Pump 2 (Stone), and consumptive use; Issue Date: May 2, 2025.

2. Heidelberg Materials Northeast-NY LLC—Bath Sand and Gravel Mine, GF Certificate No. GF-202505295, Village of Bath, Steuben County, N.Y.; Rt. 415 Well, Freshwater Pond, and consumptive use; Issue Date: May 8, 2025.

3. Heidelberg Materials Northeast-NY LLC—Jordanville Quarry, GF Certificate No. GF-202505296, Town of Warren, Herkimer County, N.Y.; Quarry Sump, Water Truck Well, and consumptive use; Issue Date: May 8, 2025.

4. New Enterprise Stone & Lime Co., Inc.—Locust Point Quarry, GF Certificate No. GF-202505297, Silver Spring Township, Cumberland County, Pa.; RMC Well, North Quarry Pit, and consumptive use; Issue Date: May 15, 2025.

Authority: Public Law 91-575, 84 Stat. 1509 et seq., 18 CFR parts 806 and 808.

Dated: June 9, 2025.
Jason E. Oyler,
General Counsel and Secretary to the Commission.

[FR Doc. 2025-10705 Filed 6-11-25; 8:45 am]

BILLING CODE 7040-01-P